DEPARTMENT OF LABOR

Employment and Training Administration

[TA-W-61,554]

Semitool, Incorporated Including On-Leased Employees From LC Staffing, Express Personnel and Workplace, Inc. Kalispell, MT; Including Employees in Support of Semitool, Incorporated, Kalispell, MT Working at Various Locations in the Following States: TA-W-61,554C Arizona et al.; Amended Certification Regarding Eligibility To Apply for Worker Adjustment Assistance and Alternative Trade Adjustment Assistance

TA-W-61,554C Arizona | TA-W-63,996D California.
TA-W-61,554E Florida | TA-W-61,554F Maine.
TA-W-61,554G North Carolina | TA-W-61,554H New Jersey.
TA-W-61,554I New York | TA-W-61,554J Oregon.
TA-W-61,554K Pennsylvania | TA-W-61,554L Texas.
TA-W-61,554M Utah | TA-W-61,554N Virginia.
TA-W-61,554O Washington | TA-W-61,554P Wisconsin.
And TA-W-61,554Q Minnesota

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 16, 2007, applicable to workers of Semitool, Incorporated, including on-site leased workers from LC Staffing, Express Personnel, and Workplace, Incorporated, Kalispell, Montana. The notice was published in the Federal Register on August 2, 2007 (72 FR 42435). The notice was amended on March 26, 2009 to include employees of the subject firm working at various locations at the above mentioned states. The notice was published in the Federal Register on April 7, 2009 (74 FR 15753).

At the request of the State agency, the Department reviewed the certification for workers of the subject firm. The workers are engaged in the production of semiconductor processing equipment.

New information shows that a worker separation has occurred involving an employee, (John Polinski) who provided various services supporting the Kalispell, Montana location of Semitool, Incorporated working out of the state of Minnesota.

Based on these findings, the Department is amending this certification to include an employee of the Kalispell, Montana facility of Semitool, Incorporated working out of the state of Minnesota.

The intent of the Department's certification is to include all workers of Semitool, Incorporated, Kalispell, Montana who were adversely affected by increased imports of semiconductor processing equipment.

The amended notice applicable to TA-W-61,554 is hereby issued as follows:

All workers of Semitool, Incorporated, including on-site leased workers from LC Staffing, Express Personnel and Workplace, Incorporated, Kalispell, Montana, including employees in support of Semitool, Incorporated, Kalispell, Montana working at various locations in the following states: Arizona (TA-W-61,554C), California (TA-W-61,554D), Florida (TA-W-61,554E), Maine (TA-W-61,554F), North Carolina (TA-W-61,554G), New Jersey (TA-W-61,554H), New York (TA-W-61,554I), Oregon (TA-W-61,554J), Pennsylvania (TA-W-61,554K), Texas (TA-W-61,554L), Utah (TA-W-61,554M, Virginia (TA-W-61,554N), Washington (TA-W-61,554O), Wisconsin (TA-W-61,554P) and Minnesota (TA-W-61,554Q), who became totally or partially separated from employment on or after May 18, 2006, through July 16, 2009, are eligible to apply for adjustment assistance under Section 223 of the Trade Act of 1974, and are also eligible to apply for alternative trade adjustment assistance under Section 246 of the Trade Act of 1974.

Signed at Washington, DC, this 6th day of October 2009.
Elliott S. Kushner,
Certifying Officer, Division of Trade Adjustment Assistance.

[FR Doc. E9-25154 Filed 10-19-09; 8:45 am]

BILLING CODE 4510-FN-P